NUCLEAR REGULATORY COMMISSION

[Docket No. 50-346; NRC-2010-0298]

FirstEnergy Nuclear Operating Company; Davis-Besse Nuclear Power Station, Unit 1

AGENCY: Nuclear Regulatory Commission.

ACTION: Supplemental environmental impact statement; issuance.

SUMMARY: The U.S. Nuclear Regulatory Commission (NRC) is issuing a final plant-specific supplement, Supplement 52, to NUREG-1437, “Generic Environmental Impact Statement for License Renewal of Nuclear Plants” (GEIS), regarding the renewal of FirstEnergy Nuclear Operating Company's (FENOC) operating license NPF-3 for an additional 20 years of operation for Davis-Besse Nuclear Power Station, Unit 1 (Davis-Besse).

DATES: The final Supplement 52 to the GEIS is available as of May 7, 2015.

ADDRESSES: Please refer to Docket ID NRC-2010-0298 when contacting the NRC about the availability of information regarding this document. You may obtain publicly-available information related to this document using any of the following methods:

• Federal Rulemaking Web site: Go to http://www.regulations.gov and search for Docket ID NRC-2010-0298. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 52 to the GEIS is in ADAMS under Accession No. ML15112A098 for Volume 1 and Accession No. ML15113A187 for Volume 2.

• NRC's PDR: You may examine and purchase copies of public documents at the NRC's PDR, Room O1-F21, One White Flint North, 11555 Rockville Pike, Rockville, Maryland 20852.

FOR FURTHER INFORMATION CONTACT: Elaine Keegan, Office of Nuclear Reactor Regulation, U.S. Nuclear Regulatory Commission, Washington, DC 20555-0001; telephone: 1-800-368-5692, ext. 8517; email: Elaine.Keegan@nrc.gov.

SUPPLEMENTARY INFORMATION:

I. Background

In accordance with § 51.118 of Title 10 of the Code of Federal Regulations, the NRC is making available final Supplement 52 to the GEIS regarding the renewal of FENOC operating license NPF-3 for an additional 20 years of operation for Davis-Besse. Draft Supplement 52 to the GEIS was noticed by the NRC in the Federal Register on March 7, 2014 (79 FR 13079), and noticed by the Environmental Protection Agency on March 21, 2014 (79 FR 15741). The public comment period on draft Supplement 52 to the GEIS ended on April 21, 2014, and the comments received are addressed in final Supplement 52 to the GEIS. Final Supplement 52 to the GEIS is available as indicated in the ADDRESSES section of this document, and is available for public inspection at the Toledo-Lucas County Public Library, 325 Michigan Street, Toledo, Ohio 43604; and at the Ida Rupp Public Library, 310 Madison Street, Port Clinton, Ohio 43452.

II. Discussion

As discussed in Section 9.4 of the final Supplement 52 to the GEIS, the NRC determined that the adverse environmental impacts of license renewal for Davis-Besse are not so great that preserving the option of license renewal for energy-planning decisionmakers would be unreasonable. This recommendation is based on: (1) The analysis and findings in the GEIS; (2) information provided in the environmental report and other documents submitted by FENOC; (3) consultation with Federal, State, local, and Tribal agencies; (4) the NRC staff's independent environmental review; and (5) consideration of public comments received during the scoping process and on the Draft Supplemental Environmental Impact Statement.

Dated at Rockville, Maryland, this 29th day of April 2015.
For the Nuclear Regulatory Commission.
Brian D. Wittick,
Chief, Projects Branch 2, Division of License Renewal, Office of Nuclear Reactor Regulation.

[FR Doc. 2015-10942 Filed 5-6-15; 8:45 am]

BILLING CODE 7590-01-P